DEPARTMENT OF TRANSPORTATION

Maritime Administration

[Docket No. DOT-MARAD-2015-0119]

Agency Requests for Renewal of a Previously Approved Information Collection(s): Maritime Administration (MARAD) Jones Act Vessel Availability Determinations

AGENCY: Maritime Administration.

ACTION: Notice and request for comments.

SUMMARY: The Maritime Administration (MARAD) invites public comments about our intention to request the Office of Management and Budget (OMB) approval to renew an information collection. The information collected ensures that the Maritime Administrator has sufficient information regarding the capacities and schedules of qualified vessels in order to make determinations required by 46 U.S.C. 501(b). The information will be used by the Maritime Administration (MARAD) to fulfill its statutory obligation in determining availability of Jones Act (i.e., coastwise-qualified vessels) in all applicable circumstances. We are required to publish this notice in the Federal Register by the Paperwork Reduction Act of 1995, Public Law 104-13.

DATES: Written comments should be submitted by December 14, 2015.

ADDRESSES: You may submit comments [identified by Docket No. DOT-MARAD-2015-0119] through one of the following methods:

• Federal eRulemaking Portal: http://www.regulations.gov. Follow the online instructions for submitting comments.

• Fax: 1-202-493-2251

• Mail or Hand Delivery: Docket Management Facility, U.S. Department of Transportation, 1200 New Jersey Avenue SE., West Building, Room W12-140, Washington, DC 20590, between 9 a.m. and 5 p.m., Monday through Friday, except on Federal holidays.

FOR FURTHER INFORMATION CONTACT: Michael Hokana, (202) 366-0760, Office of Cargo and Commercial Sealift, Maritime Administration, U.S. Department of Transportation, 1200 New Jersey Avenue SE., Washington, DC 20590.

SUPPLEMENTARY INFORMATION: OMB Control Number: 2133-0545.

Title: Maritime Administration (MARAD) Jones Act Vessel Availability Determinations.

Form Numbers: MA-1074, MA-1075.

Type of Review: Renewal of an information collection.

Background: This collection of information will be used to gather information regarding the availability, location, and specifications of U.S.-flag vessels for the purpose of making vessel availability determinations. The information is needed in order for the Maritime Administrator to make a timely and informed decision on the availability of coastwise qualified vessels in support of a request from the Department of Homeland Security prior to the final decision on granting a waiver request under 46 U.S.C. 501(b). The information will be specifically used to determine if there are coastwise qualified vessels available for a certain requirement.

Respondents: Respondents include but are not limited to coastwise qualified vessel owners, operators, charterers, brokers and representatives.

Number of Respondents: 85.

Number of Responses: 255/3 responses per respondent.

Total Annual Burden: 127.5 Hrs.

Public Comments Invited: You are asked to comment on any aspect of this information collection, including (a) whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Authority: The Paperwork Reduction Act of 1995; 44 U.S.C. chapter 35, as amended; and 49 CFR 1:93.

Dated: October 6, 2015.
T. Mitchell Hudson, Jr.,
Secretary, Maritime Administration.

[FR Doc. 2015-26205 Filed 10-14-15; 8:45 am]

BILLING CODE 4910-81-P